DEPARTMENT OF TRANSPORTATION

Federal Motor Carrier Safety Administration

49 CFR Part 393

[Docket No. FMCSA-2025-0117]

RIN 2126-AC91

Parts and Accessories Necessary for Safe Operation; Fuel Tank Overfill Restriction

AGENCY: Federal Motor Carrier Safety Administration (FMCSA), Department of Transportation (DOT).

ACTION: Final rule.

SUMMARY: FMCSA removes the requirement in the Federal Motor Carrier Safety Regulations (FMCSR) that a liquid fuel tank manufactured on or after January 1, 1973, be designed and constructed so that it cannot be filled, in a normal filling operation, with a quantity of fuel that exceeds 95 percent of the tank's liquid capacity. This final rule responds to a petition for rulemaking from the Commercial Vehicle Safety Alliance (CVSA). The revision removes an unnecessary and outdated requirement from the FMCSRs.

DATES: Effective March 23, 2026.

Petitions for reconsideration of this final rule must be submitted to the FMCSA Administrator no later than March 23, 2026.

FOR FURTHER INFORMATION CONTACT: Mr. David Sutula, Chief, Vehicle and Roadside Operations Division, FMCSA, 1200 New Jersey Avenue SE, Washington, DC 20590-0001; (202) 366-2551; David.Sutula@dot.gov. If you have questions on viewing or submitting material to the docket, call Dockets Operations at (202) 366-9826.

SUPPLEMENTARY INFORMATION: FMCSA organizes this final rule as follows:

I. Availability of Rulemaking Documents

II. Abbreviations

III. Legal Basis

IV. Discussion of Proposed Rulemaking and Comments

V. Changes From the NPRM

VI. International Impacts

VII. Section-by-Section Analysis

VIII. Regulatory Analyses

A. E.O. 12866 (Regulatory Planning and Review) and DOT Regulatory Policies and Procedures

B. E.O. 14192 (Unleashing Prosperity Through Deregulation)

C. Congressional Review Act

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0117/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

CFR Code of Federal Regulations

CMV Commercial motor vehicle

CVSA Commercial Vehicle Safety Alliance

DOT Department of Transportation

EMA Truck and Engine Manufacturers Association

E.O. Executive Order

FMCSA Federal Motor Carrier Safety Administration

FMCSR Federal Motor Carrier Safety Regulations

FR Federal Register

NPRM Notice of proposed rulemaking

OOIDA Owner-Operator Independent Drivers Association

PIA Privacy Impact Assessment

PTA Privacy Threshold Assessment

U.S.C. United States Code

III. Legal basis

The provision now codified at 49 CFR 393.67(c)(12) was adopted over 50 years ago on the basis of the Motor Carrier Safety Act of 1935. That authority is now found at 49 U.S.C. 31502(b), which authorizes the Secretary of Transportation to prescribe requirements for, among other things, the “safety of operation and equipment” of a motor carrier and the “standards of equipment” of a motor private carrier (49 U.S.C. 31502(b)(1) and (2)).

Under the Motor Carrier Safety Act of 1984, as amended, 49 U.S.C. 31136(a), DOT is required to “prescribe minimum safety standards for commercial motor vehicles. At a minimum, the regulations shall ensure that—(1) commercial motor vehicles are maintained, equipped, loaded, and operated safely; (2) the responsibilities imposed on operators of commercial motor vehicles do not impair their ability to operate the vehicles safely; (3) the physical condition of operators of commercial motor vehicles is adequate to enable them to operate the vehicles safely . . .; (4) the operation of commercial motor vehicles does not have a deleterious effect on the physical condition of the operators; and (5) an operator of a commercial motor vehicle is not coerced by a motor carrier, shipper, receiver, or transportation intermediary to operate a commercial motor vehicle in violation of a regulation promulgated under this section, or chapter 51 or chapter 313 of this title.”

This final rule is based on the authority of 49 U.S.C. 31136(a)(1) to ensure that commercial motor vehicles (CMVs) are equipped and operated safely. It does not implicate the driver-centered requirements of 49 U.S.C. 31136(a)(2)-(4). Because this final rule will remove a requirement otherwise applicable to motor carriers, there is no obvious risk of coercion related to this final rule to which a driver might be subjected.

While 49 U.S.C. 31502(b) and 31136(a)(1) authorize FMCSA to promulgate the rules in 49 CFR part 393 (Parts and Accessories Necessary for Safe Operation), they also allow the agency to remove regulations that are no longer needed for the safe operation of CMVs. For the reasons explained below, FMCSA believes 49 CFR 393.67(c)(12)(i) is obsolete and should be rescinded.

IV. Discussion of Proposed Rulemaking and Comments

A. Proposed Rulemaking

On May 30, 2025, FMCSA published in the Federal Register (Docket No. FMCSA-2025-0117, 90 FR 22923) an NPRM titled “Parts and Accessories Necessary for Safe Operation; Fuel Tank Overfill Restriction.” The NPRM proposed to amend the FMCSR to remove the requirement that a liquid fuel tank manufactured on or after January 1, 1973, be designed and constructed so that it cannot be filled, in a normal filling operation, with a quantity of fuel that exceeds 95 percent of the tank's liquid capacity.

B. Comments and Responses

FMCSA solicited comments concerning the NPRM for 60 days ending July 29, 2025. By that date, four comments were received from the following parties: the Commercial Vehicle Safety Alliance (CVSA), Energy Marketers of America, the Owner-Operator Independent Drivers Association (OOIDA), and the Truck and Engine Manufacturers Association (EMA).

CVSA, Energy Marketers of America, and OOIDA were generally supportive of the NPRM and agreed that the proposed change would remove an unnecessary and outdated requirement. CVSA and Energy Marketers of America stated that the language in section 393.67(c)(12)(i) is outdated and no longer applicable to the current state of the industry because liquid fuel tanks are now manufactured with a vented cap. Energy Marketers of America agreed with FMCSA's reasoning that the existing overfill safeguard in section 393.67(c)(12)(ii) is sufficient to prevent fuel spillage due to thermal expansion. CVSA stated that some manufacturers are equipping vehicles with tanks allowing 100 percent fill, based on the positioning of the filler neck and vented cap, with no resulting issues. CVSA also stated that the proposed revision would improve harmonization with the Canadian National Safety Code Standard 11B, which currently allows for a 100 percent fill, and benefit motor carriers who operate across the international borders between the U.S. and Canada.

EMA submitted a comment in opposition to the NPRM. EMA noted that the requirements in section 393.67(c) have been in place since January 1, 1973, and have provided a level of protection against incidental and catastrophic fuel spillage for more than 5 decades. EMA expressed concern that the NPRM did not adequately assess the safety implications of the proposed change to ensure that the system design amendment would provide for adequate control of fuel spillage on CMVs, citing the warnings provided by manufacturers in owner's manuals and in the vicinity of the fill spout indicating the dangers and risks of property damage, fuel spillage, and personal injury or death from filling beyond 95 percent of capacity.

In addition, EMA expressed concern that, due to confusion about the applicability of the amendment or because of operator misjudgment, some CMV operators could respond to the amendment by adjusting fill processes on current vehicles not designed for greater than 95 percent filling capacity. EMA stated that this could increase risk of spillage during fueling and fuel expansion and sloshing could lead to leakage past the seals and ventilation systems. EMA also stated that operators might pressure vehicle manufacturers to increase the fill capacity of their fuel tanks on new vehicle purchases, potentially up to 100 percent of their capacity, which would require manufacturers to redesign fuel tank systems, assess the safety consequences of the redesign, and undertake the full battery of demonstration tests required in section 393.67(d) and (e). EMA claimed that this would impose significant burdens on vehicle manufacturers. EMA also stated that while FMCSA proposed to eliminate the 95 percent fill limit in section 393.67(c)(12)(i), the NPRM did not propose to remove the warning marking requirement for the fill limit in paragraph (c)(11).

Finally, EMA stated that the NPRM was based on a flawed petition for rulemaking from CVSA. EMA disagreed with the assertion in the CVSA petition that vented caps render the current 95 percent maximum fill provision outdated or unnecessary because air and safety vent systems have been regulated requirements since 1973 and there is nothing new about the function of these systems that would alleviate the need for the refueling capacity requirement. EMA also disagreed with CVSA's claims that there are manufacturers equipping vehicles with tanks allowing 100 percent fill, because EMA is not aware of any tanks on CMVs that allow 100 percent fill and CVSA's claim would imply that such tanks would be in violation of the FMCSR requirements. In addition, EMA disagreed with CVSA's claims that the proposed amendment would eliminate the need for motor carriers who are operating these vehicles to request an exemption because there are no such exemptions listed on FMCSA's website. Finally, EMA disagreed with CVSA's claim that removing section 393.67(c)(12)(i) would improve harmonization with the Canadian National Safety Code Standard 11B because the Canadian National Safety Code is a set of Canadian periodic vehicle inspection requirements, and the FMCSR overfill restriction controls the design and construction of fuel tanks.

FMCSA Response

EMA's comment in opposition to the NPRM mischaracterizes the requirements in section 393.67(c)(12) as manufacturing standards. The fundamental purpose of 49 CFR part 393 is to ensure that no employer operates a CMV or causes or permits it to be operated unless it is equipped in accordance with the requirements and specifications of the part. Compliance with the rules concerning parts and accessories is necessary to ensure vehicles are equipped with the specified safety devices and equipment. Nothing in this part is a manufacturing standard. FMCSA does not have the authority to prescribe manufacturing standards, which are typically established by the National Highway Traffic Safety Administration. The standards in part 393 are enforced during vehicle inspections, which are conducted at roadside to ensure a CMV is operating in compliance with the FMCSR. There have been no recorded violations of section 393.67(c)(12) in any roadside inspections between 2021 and 2025 according to FMCSA Analysis & Information data.¹

¹ Available at https://ai.fmcsa.dot.gov/AI/.

Also, the length of time a regulation has been in effect is not a valid basis to challenge revisions to that regulation. FMCSA must constantly reevaluate its regulatory requirements to ensure they accurately reflect current technologies and real-world situations. The Agency is updating the requirements in section 393.67(c)(12) to reflect that circumstances have changed since 1973, and the 95 percent fill restriction is no longer necessary to prevent fuel tank overfill. Fuel tank designs have advanced significantly in the past 52 years, including the introduction of technologies like vented caps to relieve excess pressure and check valves to prevent fuel spillage during vehicle rollovers. The fuel capacity requirement specified in section 393.67(c)(12) was enacted to account for any spillage due to normal expansion of the fuel contained in the tank. FMCSA believes that modern venting systems for the tanks are sufficient to ensure that fuel will not spill during normal expansion. In addition, EMA's argument about safety risks with the proposed changes are without merit. While FMCSA is removing the 95 percent fill limit in section 393.67(c)(12)(i), the Agency is not requiring that tanks allow for 100 percent fill. Following this final rule, fuel tanks must still meet the testing requirements in section 393.67(d) in order to be equipped on a CMV. These testing requirements will prevent the spilling and safety concerns raised by EMA, regardless of a fill limit on the fuel tank. Manufacturers are also welcome to continue designing fuel tanks that do not allow filling past the 95 percent limit if they believe that is the best approach.

EMA's assertion that there cannot be fuel tanks that allow for over 95 percent fill based on the U.S. market and regulations is also flawed. As CVSA stated in its petition, Canada currently does not have a fill limit for fuel tanks. Therefore, fuel tanks in Canada may allow for 100 percent fill even if the FMCSR do not allow for anything above 95 percent. These vehicles may operate in cross-border operations between Canada and the U.S., which could result in violations due to the difference in Canadian requirements and the FMCSR. This change will harmonize inspections between the U.S. and Canada, regardless of EMA's assertion to the contrary.

FMCSA acknowledges that not proposing the removal of the warning marking requirement for the fill limit in paragraph (c)(11) was an oversight in the NPRM that would create conflicting requirements. The Agency incorporates that additional revision in this final rule to ensure consistency in the fuel tank regulations.

V. Changes From the NPRM

FMCSA amends section 393.67(c)(11) to remove the warning marking requirement for the fill limit, as discussed in the comment response to EMA above. Specifically, the Agency removes the second sentence of paragraph (c)(11). The revision ensures that paragraph (c)(11) conforms to revised paragraph (c)(12) and that the fill limit is no longer referenced anywhere in section 393.67.

VI. International Impacts

Motor carriers and drivers are subject to the laws and regulations of the countries where they operate, unless an international agreement states otherwise. Drivers and carriers should be aware of the regulatory differences between nations.

VII. Section-by-Section Analysis

This section-by-section analysis describes the changes to the regulatory text in numerical order.

Section 393.67 Liquid Fuel Tanks

FMCSA removes the second sentence from paragraph (c)(11). The Agency also removes paragraph (c)(12)(i) and incorporates the language from paragraph (c)(12)(ii) into (c)(12).

VIII. Regulatory Analyses

A. Executive Order (E.O.) 12866 (Regulatory Planning and Review), and DOT Regulatory Policies and Procedures

FMCSA has considered the impact of this final rule under E.O. 12866 (58 FR 51735, Oct. 4, 1993), Regulatory Planning and Review, and DOT Order 2100.6B. The Office of Information and Regulatory Affairs within the Office of Management and Budget (OMB) determined that this final rulemaking is not a significant regulatory action under section 3(f) of E.O. 12866, and has not reviewed it under that E.O.

This final rule removes the requirement that liquid fuel tanks manufactured on or after January 1, 1973, are designed and constructed so that they cannot be filled, in a normal filling operation, with a quantity of fuel that exceeds 95 percent of the tank's liquid capacity. The rule also removes a warning mark requirement about the 95 percent fill limit. FMCSA has determined that a fill limit is unnecessary for safety, as fuel tanks must still meet the testing requirements outlined in section 393.67(d). These requirements explicitly prevent fuel spillage, even during normal expansion.

This final rule enables manufacturers to design fuel tanks that prioritize both safety and innovation. By reducing administrative burdens, the rule results in cost savings to manufacturers. FMCSA does not have the data to quantify these savings. Furthermore, this change aligns the FMCSR with existing Canadian requirements, thereby simplifying operations for affected motor carriers operating across borders.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ²

² Executive Office of the President, Executive Order 14192 of January 31, 2025, Unleashing Prosperity Through Deregulation, 90 FR 9065-9067 (Feb. 6, 2025).

Implementation guidance for E.O. 14192 issued by OMB (Memorandum M-25-20, March 26, 2025) defines two different types of E.O. 14192 actions: an E.O. 14192 deregulatory action, and an E.O. 14192 regulatory action.³

³ OMB, Guidance Implementing Section 3 of Executive Order 14192, Titled “Unleashing Prosperity Through Deregulation,” Memorandum M-25-20 (Mar. 26, 2025).

An E.O. 14192 deregulatory action is defined as “an action that has been finalized and has total costs less than zero.” This final rulemaking is expected to have total costs less than zero and is therefore considered an E.O. 14192 deregulatory action.

C. Congressional Review Act

This final rule is not a major rule as defined under the Congressional Review Act (5 U.S.C. 801-808).” ⁴

⁴ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities means small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law. 104-121, 110 Stat. 857, (Mar. 29, 1996).

No regulatory flexibility analysis is required, however, if the head of an Agency or an appropriate designee certifies that the rule will not have a significant economic impact on a substantial number of small entities. This final rulemaking removes an outdated and unnecessary requirement for liquid fuel tanks manufactured on or after January 1, 1973.

Consequently, I certify that this action will not have a significant economic impact on a substantial number of small entities.

E. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If the final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this final rule will not result in such an expenditure, a written statement is not required.

G. Paperwork Reduction Act

This final rule contains no new information collection requirements under the Paperwork Reduction Act of 1995 (44 U.S.C. 3501-3520).

H. E.O. 13132 (Federalism)

A rule has implications for federalism under section 1(a) of E.O. 13132 (64 FR 43255, Aug. 10, 1999), Federalism, if it has “substantial direct effects on the States, on the relationship between the national government and the States, or on the distribution of power and responsibilities among the various levels of government.”

FMCSA has determined that this rule will not have substantial direct costs on or for States, nor will it limit the policymaking discretion of States. Nothing in this document preempts any State law or regulation. Therefore, this final rule does not have sufficient federalism implications to warrant the preparation of a Federalism Impact Statement.

I. Privacy

The Consolidated Appropriations Act, 2005,⁶ requires the Agency to assess the privacy impact of a regulation that will affect the privacy of individuals. This final rule will not require the collection of personally identifiable information.

⁶ Public Law. 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a Privacy Impact Assessment (PIA) for new or substantially changed technology that collects, maintains, or disseminates information in an identifiable form. No new or substantially changed technology will collect, maintain, or disseminate information as a result of this final rule. Accordingly, FMCSA has not conducted a PIA.

⁷ Public Law. 107-347, sec. 208, 116 Stat. 2899, 2921 (Dec. 17, 2002).

In addition, the Agency will complete a Privacy Threshold Assessment (PTA) to evaluate the risks and effects the final rule might have on collecting, storing, and sharing personally identifiable information. The PTA will be submitted to FMCSA's Privacy Officer for review and preliminary adjudication and to DOT's Privacy Officer for review and final adjudication.

J. E.O. 13175 (Indian Tribal Governments)

This final rule does not have Tribal implications under E.O. 13175 (65 FR 67249, Nov. 9, 2000), Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this final rule pursuant to the National Environmental Policy Act of 1969 (42 U.S.C. 4321 et seq.). The Agency believes this final rule will not have a reasonably foreseeable significant effect on the quality of the human environment. This action falls under a published categorical exclusion and is thus excluded from further analysis and documentation in an environmental assessment or environmental impact statement under DOT Order 5610.1D,⁸ Subpart B, subsection (e). Specifically, paragraph (e)(6)(bb), which covers regulations pertaining to vehicle operation safety standards, equipment approval, and/or equipment carriage requirements.

⁸ Available at: https://www.transportation.gov/mission/dots-procedures-considering-environmental-impacts.

List of Subjects in 49 CFR Part 393

Highway safety, Motor carriers, Motor vehicle safety.

Accordingly, FMCSA amends 49 CFR part 393 to read as follows:

PART 393—PARTS AND ACCESSORIES NECESSARY FOR SAFE OPERATION

1. The authority citation for part 393 continues to read as follows:

Authority: 49 U.S.C. 31136, 31151, 31502; sec. 1041(b), Pub. L. 102-240, 105 Stat. 1914, 1993; secs. 5301 and 5524, Pub. L. 114-94, 129 Stat. 1312, 1543, 1560; and 49 CFR 1.87.

2. Amend § 393.67 by revising paragraphs (c)(11) and (12) to read as follows:

§ 393.67 Liquid fuel tanks.

* * * * *

(c) * * *

(11) Markings. If the body of a fuel tank is readily visible when the tank is installed on the vehicle, the tank must be plainly marked with its liquid capacity.

(12) Overfill restriction. A liquid fuel tank manufactured on or after January 1, 1973, must be designed and constructed so that when the tank is filled, normal expansion of the fuel will not cause fuel spillage.

* * * * *

Issued under authority delegated in 49 CFR 1.87.
Derek Barrs,
Administrator.

[FR Doc. 2026-03265 Filed 2-18-26; 8:45 am]

BILLING CODE 4910-EX-P